DEPARTMENT OF STATE

[Public Notice No. 3521]

Advisory Committee on International Law; Notice of Committee Meeting

A meeting of the Advisory Committee on International Law will take place on Friday, February 2, 2001, from 10 a.m. to approximately 5 p.m., as necessary, in Room 1205 of the United States Department of State, 2201 C Street, NW., Washington, DC. The meeting will be chaired by the Acting Legal Adviser of the Department of State, James H. Thessin, and will be open to the public up to the capacity of the meeting room. The meeting will discuss the International Law Commission's draft articles on State Responsibility, the question of a right to a remedy under international law for human rights violations, the proposed Council of Europe Computer Crime Convention, recent legal developments relating to international criminal tribunals, cases pending before the International Court of Justice, and other current topics.

Entry to the building is controlled and will be facilitated by advance arrangements. Members of the public desiring access to the session should, by Wednesday, January 31, 2001, notify the Office of the Assistant Legal Adviser for United Nations Affairs (telephone (202) 647-2767) of their name, Social Security number, date of birth, professional affiliation, address and telephone number in order to arrange admittance. This includes both government and non-government admittance. All attendees must use the “C” Street entrance. One of the following valid IDs will be required for admittance: any U.S. driver's license with photo, a passport, or a U.S. Government agency ID. Because an escort is required at all times, attendees should expect to remain in the meeting for the entire morning or afternoon session.

Dated: December 22, 2000.
D. Stephen Mathias,
Assistant Legal Adviser for United Nations Affairs, U.S. Department of State.

[FR Doc. 00-33431 Filed 12-29-00; 8:45 am]

BILLING CODE 4710-08-P